DEPARTMENT OF COMMERCE

Foreign-Trade Zones Board

[S-75-2016]

Approval of Subzone Status: Westlake Chemical Corporation, Geismar, Louisiana

On May 25, 2016, the Executive Secretary of the Foreign-Trade Zones (FTZ) Board docketed an application submitted by the Greater Baton Rouge Port Commission, grantee of FTZ 154, requesting subzone status subject to the existing activation limit of FTZ 154, on behalf of Westlake Chemical Corporation in Geismar, Louisiana.

The application was processed in accordance with the FTZ Act and Regulations, including notice in the Federal Register inviting public comment (81 FR 35297, June 2, 2016). The FTZ staff examiner reviewed the application and determined that it meets the criteria for approval.

Pursuant to the authority delegated to the FTZ Board's Executive Secretary (15 CFR Sec. 400.36(f)), the application to establish Subzone 154C is approved, subject to the FTZ Act and the Board's regulations, including Section 400.13, and further subject to FTZ 154's 2,000-acre activation limit.

Dated: August 11, 2016.
Andrew McGilvray,
Executive Secretary.

[FR Doc. 2016-19647 Filed 8-16-16; 8:45 am]

BILLING CODE 3510-DS-P